DEPARTMENT OF TRANSPORTATION

Federal Aviation Administration

14 CFR Part 39

[Docket No. FAA-2015-0681; Directorate Identifier 2014-NM-201-AD; Amendment 39-18400; AD 2016-04-06]

RIN 2120-AA64

Airworthiness Directives; The Boeing Company Airplanes

AGENCY: Federal Aviation Administration (FAA), DOT.

ACTION: Final rule.

SUMMARY: We are adopting a new airworthiness directive (AD) for all The Boeing Company Model 737-600, -700, -700C, -800, -900, and -900ER series airplanes. This AD was prompted by a determination that a repetitive test is needed to inspect the components on airplanes equipped with a certain air distribution system configuration. This AD requires doing repetitive testing for correct operation of the equipment cooling system and low pressure environmental control system, and corrective actions if necessary. This AD also requires, for certain airplanes, installing new relays and doing wiring changes to the environmental control system. We are issuing this AD to detect and correct latent failures of the equipment cooling system and low pressure environmental control system, which, in combination with a cargo fire event, could result in smoke in the flight deck and/or main cabin, and possible loss of aircraft control.

DATES: This AD is effective April 1, 2016.

The Director of the Federal Register approved the incorporation by reference of certain publications listed in this AD as of April 1, 2016.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-0681.

Examining the AD Docket

You may examine the AD docket on the Internet at http://www.regulations.gov by searching for and locating Docket No. FAA-2015-0681; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

SUPPLEMENTARY INFORMATION:

Discussion

We issued a notice of proposed rulemaking (NPRM) to amend 14 CFR part 39 by adding an AD that would apply to all The Boeing Company Model 737-600, -700, -700C, -800, -900, and -900ER series airplanes. The NPRM published in the Federal Register on April 1, 2015 (80 FR 17368) (“the NPRM”). The NPRM was prompted by a determination that a repetitive test is needed to inspect the components on airplanes equipped with a certain air distribution system configuration. The NPRM proposed to require repetitive testing for correct operation of the equipment cooling system and low pressure environmental control system, and corrective actions if necessary. The NPRM also proposed to require, for certain airplanes, installing new relays and doing wiring changes to the environmental control system. We are issuing this AD to detect and correct latent failures of the equipment cooling system and low pressure environmental control system, which, in combination with a cargo fire event, could result in smoke in the flight deck and/or main cabin, and possible loss of aircraft control.

Comments

We gave the public the opportunity to participate in developing this AD. The following presents the comments received on the NPRM and the FAA's response to each comment.

Request To Clarify Conditions Leading to Unsafe Condition

Boeing requested that we revise the unsafe condition to clarify that latent failures of the equipment cooling system and low pressure environmental control system alone do not create the unsafe condition addressed in the NPRM. Boeing explained that the unsafe condition is a combination of a failure of both systems along with a cargo fire event, which could lead to a smoke penetration hazard.

We agree to revise the description of the events leading to the unsafe condition, and have revised the SUMMARY section in this final rule and paragraph (e) of this AD accordingly.

Request To Clarify Unsafe Condition

Boeing requested that we revise the NPRM to clarify that the hazard being mitigated by the NPRM is smoke penetration into the occupied areas of the airplane—the flight deck or the main cabin (not just the flight deck). Boeing stated that failure of the equipment cooling system and/or low pressure environmental control system, in combination with a cargo fire event, could lead to cargo smoke penetration into the flight deck and/or main cabin, either of which could be catastrophic.

We agree that clarification is needed to specify that the hazard being mitigated by the NPRM is smoke penetration into flight deck and main cabin, which are occupied areas of the airplane. We have revised the SUMMARY section in this final rule and paragraph (e) of this AD accordingly.

Request To Match Repetitive Interval in Service Information

Boeing, Delta Airlines (Delta), United Airlines (United), and Yuta Kobayashi requested that we revise the repetitive interval for the operational test from 9,000 flight cycles to 9,000 flight hours. Boeing stated that a 9,000 flight-hour interval is supported by a fault tree analysis, whereas the repetitive interval of 9,000 flight cycles required by the NPRM is not. Mr. Kobayashi stated that a correction needed to be made since Boeing Alert Service Bulletin 737-26A1137, dated May 22, 2014, states the repetitive interval in flight hours.

We agree with the request to revise the repetitive interval since the repetitive interval in flight hours matches the interval stated in Boeing Alert Service Bulletin 737-26A1137, dated May 22, 2014. In the proposed AD, we inadvertently specified flight “cycles” instead of flight “hours.” We have revised the interval in paragraph (g) of this AD from flight “cycles” to flight “hours.”

Request To Clarify Airplanes Subject to Repetitive Testing Requirement

The Discussion section of the NPRM stated that a repetitive test is needed on airplanes equipped with an air distribution system that had been reconfigured in accordance with Boeing Special Attention Service Bulletin 737-26-1122. Boeing requested that we revise the NPRM to clarify that all Model 737-600, -700, -700C, -800, -900 and -900ER airplanes are subject to the repetitive testing (as specified in Boeing Alert Service Bulletin 737-26A1137, dated May 22, 2014)—not just those airplanes with reconfigured air distribution systems. Boeing added that Model 737-700C and 737-900 airplanes were not subject to the same changes and thus were not included in the effectivity of Boeing Special Attention Service Bulletin 737-26-1122, Revision 1, dated August 13, 2009.

We agree that Boeing Alert Service Bulletin 737-26A1137, dated May 22, 2014, describes procedures for the operational testing of the equipment cooling system and low pressure environmental control systems, and that all 737-600, -700, -700C, -800, -900 and -900ER airplanes are subject to this repetitive testing. However, the Discussion section that appeared in the NPRM is not repeated in this final rule. Therefore no change has been made to this final rule in this regard.

Request To Exclude Certain Airplanes From Applicability

Delta requested that we revise the NPRM to exclude airplanes that have not been modified by Boeing Special Attention Service Bulletin 737-26-1122, Revision 1, dated August 13, 2009. Delta further requested that these airplanes be subject to evaluation for additional separate rulemaking.

Delta stated that it believes two separate airworthiness concerns must be addressed. Delta stated that the first concern identified by the NPRM is a potential latent failure of the equipment cooling system and low pressure environmental control system; Delta noted this condition is addressed by Boeing Alert Service Bulletin 737-26A1137, dated May 22, 2014.

Delta stated that the second concern, not identified by the NPRM, is the need to properly isolate the occupied areas of the airplane from smoke intrusion in the event of a cargo compartment fire; Delta noted this condition is addressed by the following service information:

• Boeing Special Attention Service Bulletin 737-26-1121, Revision 1, dated October 26, 2009.

• Boeing Special Attention Service Bulletin 737-26-1122, Revision 1, dated August 13, 2009.

• Boeing Special Attention Service Bulletin 737-21-1135, Revision 1, dated November 13, 2008.

• Boeing Special Attention Service Bulletin 737-21-1163, Revision 1, dated December 17, 2009.

Delta stated this service information introduces, among other tasks, better sealing of the cargo compartment and changes to the environmental control system to keep the cargo compartment at a lower pressure than that of the cabin in order to keep smoke from a cargo compartment fire out of occupied areas.

We disagree with the request to exclude the airplanes identified by the commenter and consider separate rulemaking for those airplanes. The primary airworthiness concern addressed by the requirements in this AD is the lack of a procedure to detect and correct latent failures of the equipment cooling system and low pressure environmental control system, which, in combination with a cargo fire event, could result in smoke in the flight deck and/or main cabin, and possible loss of aircraft control. This unsafe condition affects all Model 737-600, -700, -700C, -800, -900, and -900ER airplanes, regardless of whether Boeing Special Attention Service Bulletin 737-26-1122, Revision 1, dated August 13, 2009, has been done. Therefore, all Model 737-600, -700, -700C, -800, -900, and -900ER airplanes are subject to the repetitive testing in Boeing Alert Service Bulletin 737-26A1137, dated May 22, 2014, not just those airplanes reconfigured using Boeing Special Attention Service Bulletin 737-26-1122, Revision 1, dated August 13, 2009.

For certain airplanes, Boeing Special Attention Service Bulletin 737-26-1122, Revision 1, dated August 13, 2009, is a concurrent requirement because the actions specified Boeing Special Attention Service Bulletin 737-26-1122, Revision 1, dated August 13, 2009, must be done to make sure the testing results are satisfactory (e.g., electrical components that are required to reconfigure the air distribution system during a cargo fire event need to be installed).

In addition, the installation and changes specified in paragraph B. “Concurrent Requirements” of Boeing Special Attention Service Bulletin 737-26-1122, Revision 1, dated August 13, 2009, will need to be implemented, if not already done, in order accomplish the concurrent requirements as specified in Boeing Special Attention Service Bulletin 737-26-1122, Revision 1, dated August 13, 2009. These measures are necessary to properly isolate the occupied areas of the aircraft from smoke penetration in the event of a cargo compartment fire, such as changes to the cargo compartment sealing and equipment cooling system to keep the cargo compartment at a lower pressure than the cabin pressure. Therefore, we have not changed this final rule regarding this issue.

Request To Incorporate Additional Service Information and Revise the Costs of Compliance Section

Delta and Southwest Airlines (Southwest) requested that the Costs of Compliance section of the NPRM be revised to capture the costs of the following service information since they are identified as “Concurrent Requirements” in Boeing Special Attention Service Bulletin 737-26-1122, Revision 1, dated August 13, 2009:

• Boeing Special Attention Service Bulletin 737-26-1121, Revision 1, dated October 26, 2009.

• Boeing Special Attention Service Bulletin 737-21-1135, Revision 1, dated November 13, 2008.

• Boeing Special Attention Service Bulletin 737-21-1163, Revision 1, dated December 17, 2009.

Delta stated these concurrent service bulletins add a significant burden to operators in terms of labor and time since they amount to 190 additional work-hours. Delta added that since these concurrent actions add significant change in scope, it is necessary to withdraw the existing proposed rule, allow operators the opportunity to comment on their incorporation, and reissue a revised rule with a new comment period. Additionally, Delta asked that these documents be specified by their explicit revision level in order to ensure the correct intended compliance actions are satisfied.

We agree to add the labor and parts costs for concurrent accomplishment of Boeing Special Attention Service Bulletin 737-26-1122, Revision 1, dated August 13, 2009, because it is a requirement of this final rule for Group 1 airplanes; the costs for this action were inadvertently omitted from the NPRM.

We also acknowledge the installation and changes specified in paragraph B. “Concurrent Requirements” of Boeing Special Attention Service Bulletin 737-26-1122, Revision 1, dated August 13, 2009, may also need to be done for certain airplanes. We have therefore revised the Costs of Compliance section of this final rule by adding 208 work-hours and a parts cost of $27,323 for the concurrent action.

We do not agree to withdraw the existing NPRM and reissue a revised NPRM with a new comment period. To delay this final rule would be inappropriate, since we have determined that an unsafe condition exists. However, under the provisions of paragraph (j) of this AD, we may approve requests for adjustments to the compliance time if data are submitted to substantiate that such an adjustment would provide an acceptable level of safety. We have not changed this final rule in this regard.

Request To Clarify Conflicting Concurrent Requirements

Jet2.com requested that compliance guidance be given for airplanes equipped with Supplemental Type Certificate (STC) ST02076LA (http://rgl.faa.gov/Regulatory_and_Guidance_Library/rgstc.nsf/0/73f6dd3b3bfe1890862578af0053cf0a/$FILE/ST02076LA.pdf); specifically, Jet2.com asked for clarification for airplanes that accomplished STC ST02076LA as an alternative action to installing the automatic shutoff system for the center tank fuel boost pumps using Boeing Alert Service Bulletin 737-28A1206, Revision 2, dated May 21, 2009, which is required by AD 2011-18-03, Amendment 39-16785 (76 FR 53317, August 26, 2011). Jet2.com explained that while the concurrent service information is clear for accomplishing the required actions of the proposed AD, actions for airplanes having STC ST02076LA are not clear.

We agree to clarify the concurrent requirements of this AD. Paragraph B., “Concurrent Requirements,” of Boeing Special Attention Service Bulletin 737-26-1122, Revision 1, dated August 13, 2009, refers to Boeing Special Attention Service Bulletin 737-21-1135, dated December 12, 2007, for certain changes. However, Boeing Special Attention Service Bulletin 737-21-1135, dated December 12, 2007, inadvertently specified concurrent accomplishment of Boeing Alert Service Bulletin 737-28A1206, dated January 11, 2006. Boeing subsequently issued Special Attention Service Bulletin 737-21-1135, Revision 1, dated November 13, 2008, which no longer identifies Boeing Alert Service Bulletin 737-28A1206, dated January 11, 2006, as concurrent service information. We have revised paragraph (h) of this AD to clarify the concurrent requirements and state that Boeing Alert Service Bulletin 737-28A1206, dated January 11, 2006, is not required by this AD.

Request To Clarify Initial Compliance Time for Production Airplanes

American requested that we clarify the initial compliance times for airplanes that have not yet been delivered, since the proposed AD specifies a compliance time for the initial testing of only in-service airplanes, but not airplanes that are in production. American also requested a more definitive method of determining aircraft effectivity than relying on “the `Get Effectivity' function on myboeingfleet.com” as specified in Boeing Alert Service Bulletin 737-26A1137, dated May 22, 2014.

We agree that clarification is necessary. Group 3 airplanes in Boeing Alert Service Bulletin 737-26A1137, dated May 22, 2014, are identified as those having line numbers 1701 and all line numbers after 1701. It is not necessary to use the `Get Effectivity' function on “myboeingfleet.com” because airplanes in production are Group 3 airplanes. The compliance time for Group 3 airplanes as specified in the NPRM is within 10 months. However, we have determined that for airplanes having line numbers 4923, 4924, and 4926 and subsequent, which were delivered after the issuance of Boeing Alert Service Bulletin 737-26A1137, dated May 22, 2014, a compliance time of “before the accumulation of 9,000 total flight hours” will provide an acceptable level of safety. We have coordinated this change with Boeing. As a result, we have restructured paragraph (g) to include new subparagraphs (g)(1) and (g)(2).

Request To Revise Initial Compliance Time Relative to AD Effective Date

United requested that we clarify the initial compliance times for the test for correct operation of the equipment cooling system and low pressure environmental control system of the proposed AD. United requested that the compliance time be revised from the effective date of the service bulletin to the effective date of the AD since Boeing Alert Service Bulletin 737-26A1137, dated May 22, 2014, was not required at the time it was published and therefore, some operators may already be beyond the compliance time when this AD is issued.

We agree that clarification is necessary. This AD requires compliance within the specified compliance time after the effective date of this AD. This provision was specified in paragraph (i) of the proposed AD, and is retained in this AD. We have not changed this AD in this regard.

Request To Refer to a Maintenance Planning Document (MPD) as a Method of Compliance

Aeroflot requested that we refer to Boeing Maintenance Planning Document B737 MPD 21-050-00. Aeroflot stated that the MPD and Boeing Alert Service Bulletin 737-26A1137, dated May 22, 2014, refer to the same task specified in Boeing Airplane Maintenance Manual 21-27-00-700.

We disagree with the request. Although this final rule does not refer to Boeing B737 MPD 21-050-00 as a method of compliance, operators may apply for an alternative method of compliance (AMOC) for these actions in accordance with the provisions of paragraph (j)(1) of this AD if sufficient data are submitted to substantiate that the MPD provides an acceptable level of safety. We have not changed this AD in this regard.

Clarification Regarding the Installation of Winglets

Aviation Partners Boeing stated that the installation of winglets per Supplemental Type Certificate (STC) ST00830SE (http://rgl.faa.gov/Regulatory_and_Guidance_Library/rgstc.nsf/0/408E012E008616A7862578880060456C?OpenDocument&Highlight=st00830se) does not affect compliance.

We agree with the commenter that Supplemental Type Certificate (STC) ST00830SE (http://rgl.faa.gov/Regulatory_and_Guidance_Library/rgstc.nsf/0/408E012E008616A7862578880060456C?OpenDocument&Highlight=st00830se) does not affect the accomplishment of the manufacturer's service instructions. Therefore, the installation of STC ST00830SE does not affect the ability to accomplish the actions required by this AD. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin 737-26A1137, dated May 22, 2014, which describes procedures for repetitive testing for correct operation of the smoke clearance mode of the equipment cooling system and low pressure environmental control system, and applicable corrective actions.

We also reviewed Boeing Special Attention Service Bulletin 737-26-1122, Revision 1, dated August 13, 2009, which describes procedures for installing new relays and doing wiring changes to the environmental control system.

This service information is reasonably available because the interested parties have access to it through their normal course of business or by the means identified in the ADDRESSES section.

Costs of Compliance

We estimate that this AD affects 1,372 airplanes of U.S. registry.

We estimate the following costs to comply with this AD:

Estimated Costs
Action | Labor cost | Parts cost | Cost per product | Cost on U.S. operators
Operational Test | 4 work-hours × $85 per hour = $340 per operation test cycle | $0 | $340 per operation test cycle | $466,480 per operation test cycle.
Installation of new relays and wiring changes to the environmental control system (concurrent actions) (up to 613 airplanes) | Up to 208 work-hours × $85 per hour = $17,680 | Up to $27,323 | Up to $45,003 | Up to $27,586,839.

We estimate the following costs to do any necessary system fault isolation and replacements that would be required based on the results of the operational test. We have no way of determining the number of aircraft that might need these actions:

On-Condition Costs
Action | Labor cost | Parts cost | Cost per product
Perform system fault isolation and replace faulty component | 10 work-hours × $85 per hour = $850 | $0 | $850

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-04-06 The Boeing Company: Amendment 39-18400; Docket No. FAA-2015-0681; Directorate Identifier 2014-NM-201-AD.

(a) Effective Date

This AD is effective April 1, 2016.

(b) Affected ADs

None.

(c) Applicability

This AD applies to all The Boeing Company Model 737-600, -700, -700C, -800, -900, and -900ER series airplanes, certificated in any category.

(d) Subject

Air Transport Association (ATA) of America Code 2120, Air Distribution System.

(e) Unsafe Condition

This AD was prompted by a determination that repetitive inspection is needed to inspect the components on airplanes equipped with a certain air distribution system configuration. We are issuing this AD to detect and correct latent failures of the equipment cooling system and low pressure environmental control system, which, in combination with a cargo fire event, could result in smoke in the flight deck and/or main cabin, and possible loss of aircraft control.

(f) Compliance

Comply with this AD within the compliance times specified, unless already done.

(g) Repetitive Operational Tests and Corrective Action

At the applicable times specified in paragraph (g)(1) or (g)(2) of this AD, do a test for correct operation of the smoke clearance mode of the equipment cooling system and low pressure environmental control system, and do all applicable corrective actions, in accordance with the Accomplishment Instructions of Boeing Alert Service Bulletin 737-26A1137, dated May 22, 2014. Do all applicable corrective actions before further flight. Repeat the test thereafter at intervals not to exceed 9,000 flight hours.

(1) For airplanes other than those identified in paragraph (g)(2) of this AD: At the applicable times identified in paragraph 1.E., “Compliance,” of Boeing Alert Service Bulletin 737-26A1137, dated May 22, 2014, except as required by paragraph (i) of this AD.

(2) For airplanes having line numbers 4923, 4924, and 4926 and subsequent: Before the accumulation of 9,000 total flight hours.

(h) Concurrent Requirements

For Group 1 airplanes identified in Boeing Alert Service Bulletin 737-26A1137, dated May 22, 2014: Before or concurrently with accomplishing the initial operational test required of paragraph (g) of this AD, install new relays and do wiring changes to the environmental control system, in accordance with the Accomplishment Instructions of Boeing Special Attention Service Bulletin 737-26-1122, Revision 1, dated August 13, 2009. When the actions required by this paragraph are done, the installation and changes specified in paragraph B. “Concurrent Requirements” of Boeing Special Attention Service Bulletin 737-26-1122, Revision 1, dated August 13, 2009, must also be done. However, operators should note that Boeing Alert Service Bulletin 737-28A1206, dated January 11, 2006, is not required by this AD.

(i) Exception to the Service Information

Where paragraph 1.E., “Compliance,” of Boeing Alert Service Bulletin 737-26A1137, dated May 22, 2014, specifies a compliance time “after the original issue date of this service bulletin,” this AD requires compliance within the specified compliance time after the effective date of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) For service information that contains steps that are labeled as Required for Compliance (RC), the provisions of paragraphs (j)(3)(i) and (j)(3)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 737-26A1137, dated May 22, 2014.

(ii) Boeing Special Attention Service Bulletin 737-26-1122, Revision 1, dated August 13, 2009.

(3) For service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 8, 2016.
Michael Kaszycki,
Acting Manager, Transport Airplane Directorate, Aircraft Certification Service.

[FR Doc. 2016-03459 Filed 2-25-16; 8:45 am]

BILLING CODE 4910-13-P